DEPARTMENT OF ENERGY

Federal Energy Regulatory Commission

Combined Notice of Filings #1

August 1, 2007.

Take notice that the Commission received the following electric corporate filings:

Docket Numbers: EC07-118-000.

Applicants: Virginia Electric and Power Company.

Description: Application of Virginia Electric and Power Co for approval under section 203 of the FPA to acquire approximately 540 MW Possum Point Generating Unit 6.

Filed Date: July 26, 2007.

Accession Number: 20070730-0370.

Comment Date: 5 p.m. Eastern Time on Thursday, August 16, 2007.

Docket Numbers: EC07-119-000.

Applicants: Zeeland Power Company, LLC, Consumers Energy Company, Broadway Gen Funding, LLC.

Description: Application of Zeeland Power Co, LLC et al. for authorization under section 203 of the FPA and request for waivers.

Filed Date: July 27, 2007.

Accession Number: 20070730-0391.

Comment Date: 5 p.m. Eastern Time on Friday, August 17, 2007.

Take notice that the Commission received the following electric rate filings:

Docket Numbers: ER01-316-025.

Applicants: ISO New England Inc.

Description: ISO New England Inc submits its Index of Customers for the second quarter of 2007 under its FERC Tariff, for Transmission Dispatch and Power Administration Services.

Filed Date: July 27, 2007.

Accession Number: 20070731-0041.

Comment Date: 5 p.m. Eastern Time on Friday, August 17, 2007.

Docket Numbers: ER05-718-000.

Applicants: California Independent System Operator Corporation.

Description: California ISO One Hundred Thirteenth Weekly DMM Report on Market Impacts of Amendment 66 pursuant to FERC's April 7, 2005 Order.

Filed Date: July 27, 2007.

Accession Number: 20070727-5011.

Comment Date: 5 p.m. Eastern Time on Friday, August 17, 2007.

Docket Numbers: ER06-1271-007.

Applicants: PJM Interconnection, L.L.C.

Description: PJM Interconnection, LLC submits an amendment to the compliance filing made on May 21, 2007.

Filed Date: July 26, 2007.

Accession Number: 20070730-0360.

Comment Date: 5 p.m. Eastern Time on Thursday, August 16, 2007.

Docket Numbers: ER07-1062-001.

Applicants: AB Energy NY, Pty. Ltd.

Description: AB Energy NY Pty Ltd submits an amended tariff which correct the pagination of the tariff sheets designated as Original Sheet No.1 et. al. to FERC Electric Tariff, Original Volume No. 1.

Filed Date: July 26, 2007.

Accession Number: 20070730-0361.

Comment Date: 5 p.m. Eastern Time on Thursday, August 16, 2007.

Docket Numbers: ER07-1063-001.

Applicants: AB Energy NE, Pty. Ltd.

Description: AB Energy NE Pty, Ltd submits amended tariff, Original Sheets 1 and 2 regarding their June 20, 2007 filing of petition for acceptance of initial tariff under ER07-1063.

Filed Date: July 26, 2007.

Accession Number: 20070730-0362.

Comment Date: 5 p.m. Eastern Time on Thursday, August 16, 2007.

Docket Numbers: ER07-1071-000.

Applicants: PJM Interconnection, LLC.

Description: Answer of Virginia Electric and Power Company Opposing Industrial Power Generating Company, LLC's Motion to Strike.

Filed Date: July 26, 2007.

Accession Number: 20070726-5033.

Comment Date: 5 p.m. Eastern Time on Thursday, August 16, 2007.

Docket Numbers: ER07-1076-001.

Applicants: Upper Peninsula Power Company.

Description: Upper Peninsula Power Company submits an Amendment to its original filing in response to an informal request by FERC Staff concerning its June 25, 2007 filing.

Filed Date: July 27, 2007.

Accession Number: 20070730-0390.

Comment Date: 5 p.m. Eastern Time on Friday, August 17, 2007.

Docket Numbers: ER07-1199-000.

Applicants: Airtricity Munnsville Wind Farm, LLC.

Description: Application of Airtricity Munnsville Wind Farm, LLC for order accepting initial market based rate tariff and granting certain waivers and blanket approvals.

Filed Date: July 26, 2007.

Accession Number: 20070727-0047.

Comment Date: 5 p.m. Eastern Time on Thursday, August 16, 2007.

Docket Numbers: ER07-1200-000.

Applicants: Allegheny Power.

Description: Allegheny Power submits notice of cancellation of the Interconnection and Operating Agreement with the Borough of Chambersburg, Service Agreement 353, FERC Electric Tariff, 2 Revised Volume 1.

Filed Date: July 26, 2007.

Accession Number: 20070727-0046.

Comment Date: 5 p.m. Eastern Time on Thursday, August 16, 2007.

Docket Numbers: ER07-1202-000.

Applicants: JD Wind 4, LLC.

Description: JD Wind 4, LLC submits an application for market-based rate authority, certain waivers, blanket authorization, FERC Electric Tariff, Original Volume No. 1.

Filed Date: July 26, 2007.

Accession Number: 20070727-0044.

Comment Date: 5 p.m. Eastern Time on Thursday, August 16, 2007.

Docket Numbers: ER07-1203-000

Applicants: Duke Energy Carolinas, LLC.

Description: Duke Energy Carolinas, LLC submits the June 7, 2007 Amended and Restated Confirmation with North Carolina Municipal Power Agency Number No. 1.

Filed Date: July 26, 2007.

Accession Number: 20070727-0042.

Comment Date: 5 p.m. Eastern Time on Thursday, August 16, 2007.

Docket Numbers: ER07-1204-000.

Applicants: PJM Interconnection, L.L.C.

Description: PJM Interconnection, LLC submits an executed interconnection service agreement with DPL Energy, LLC.

Filed Date: July 26, 2007.

Accession Number: 20070730-0369.

Comment Date: 5 p.m. Eastern Time on Thursday, August 16, 2007.

Docket Numbers: ER07-1205-000.

Applicants: PJM Interconnection, L.L.C.

Description: PJM Interconnection, LLC submits an executed interconnection service agreement with WM Renewable Energy, LLC.

Filed Date: July 26, 2007.

Accession Number: 20070730-0368.

Comment Date: 5 p.m. Eastern Time on Thursday, August 16, 2007.

Docket Numbers: ER07-1206-000.

Applicants: PSEG Lawrenceburg Energy Company LLC.

Description: PSEG Lawrenceburg Energy Company LLC submits its Notice of Cancellation of market-based rate authority under its FERC Electric Tariff, Original Volume No. 1.

Filed Date: July 27, 2007.

Accession Number: 20070730-0363.

Comment Date: 5 p.m. Eastern Time on Friday, August 17, 2007.

Docket Numbers: ER07-1207-000.

Applicants: Premier Energy Marketing L.L.C.

Description: Premier Energy Marketing LLC requests acceptance of FERC Electric Tariff, Original Volume No. 1 to engage in wholesale electric power and energy transactions and grant of certain blanket approvals.

Filed Date: July 25, 2007.

Accession Number: 20070731-0040

Comment Date: 5 p.m. Eastern Time on Wednesday, August 15, 2007.

Docket Numbers: ER07-1208-000.

Applicants: Wind Capital Holdings, LLC.

Description: Wind Capital Holdings LLC submits an application for market-based rate authority, certain waivers, and blanket authorizations.

Filed Date: July 27, 2007.

Accession Number: 20070731-0039.

Comment Date: 5 p.m. Eastern Time on Friday, August 17, 2007.

Docket Numbers: ER07-1209-000.

Applicants: American Transmission Company LLC.

Description: American Transmission Company LLC submits an executed Amended and Restated Generation—Transmission Interconnection Agreement with Upper Peninsula Power Company.

Filed Date: July 27, 2007.

Accession Number: 20070731-0038.

Comment Date: 5 p.m. Eastern Time on Friday, August 17, 2007.

Docket Numbers: ER07-1210-000.

Applicants: PJM Interconnection L.L.C.

Description: PJM Interconnection, LLC submits an executed interconnection service agreement with Handsome Lake Energy, LLC and Pennsylvania Electric Company.

Filed Date: July 27, 2007.

Accession Number: 20070731-0037.

Comment Date: 5 p.m. Eastern Time on Friday, August 17, 2007.

Docket Numbers: ER07-1211-000.

Applicants: PJM Interconnection, L.L.C.

Description: PJM Interconnection, LLC submits six executed interconnection service agreements with American Electric Power Service Corp.

Filed Date: July 27, 2007.

Accession Number: 20070731-0083.

Comment Date: 5 p.m. Eastern Time on Friday, August 17, 2007.

Take notice that the Commission received the following electric securities filings:

Docket Numbers: ES07-43-001.

Applicants: PSEG Fossil LLC.

Description: Supplement filing of the PSEG Companies to the July 9, 2007 Application.

Filed Date: July 25, 2007.

Accession Number: 20070725-5033

Comment Date: 5 p.m. Eastern Time on Wednesday, August 15, 2007.

Docket Numbers: ES07-46-001.

Applicants: PSEG Fossil LLC.

Description: Supplemental Filing of the PSEG Companies to the July 19, 2007 Application.

Filed Date: July 25, 2007.

Accession Number: 20070725-5035.

Comment Date: 5 p.m. Eastern Time on Wednesday, August 15, 2007.

Docket Numbers: ES07-49-000.

Applicants: Georgia Power Company.

Description: Form 523—Request for Permission to Issue Securities of Georgia Power Company.

Filed Date: July 26, 2007.

Accession Number: 20070726-5012.

Comment Date: 5 p.m. Eastern Time on Thursday, August 16, 2007.

Take notice that the Commission received the following public utility holding company filings:

Docket Numbers: PH07-26-000.

Applicants: Stora Enso Oyj, Stora Enso North America, Inc. Stora Enso North America Corp.

Description: FERC Form 65 B—Waiver Notification of Stora Enso Oyj, et al.

Filed Date: July 25, 2007.

Accession Number: 20070725-5074.

Comment Date: 5 p.m. Eastern Time on Wednesday, August 15, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the web site that enables subscribers to receive email notification when a document is added to a subscribed dockets(s). For assistance with any FERC Online service, please e-mail FERCOnlineSupport@ferc.gov or call (866) 208-3676 (toll free). For TTY, call (202) 502-8659.

Kimberly D. Bose,
Secretary.

[FR Doc. E7-15402 Filed 8-7-07; 8:45 am]

BILLING CODE 6717-01-P